DEPARTMENT OF THE INTERIOR

[LLCAD08000-L14300000-ET0000; CACA 51737]

Public Land Order No. 7801; Withdrawal of Public Lands for Protection of Proposed Expansion of Twentynine Palms, CA

Correction

In notice document 2012-23479 beginning on page 58864 of the issue of Monday, September 24, 2012 make the following correction:

On page 58865, beginning in the first column, under the heading “a. Federal surface and mineral estate:”, and ending on the same page, in the third column, on the last line, the text should read as follows:

San Bernardino Meridian

Western Acquisition Area

T. 4 N., R. 2 E.,

Sec. 1.

T. 5 N., R. 2 E.,

Secs. 1 and 2;

Secs. 11 to 14, inclusive, and 23 to 26, inclusive;

Sec. 35.

T. 6 N., R. 2 E.,

Sec. 13;

Secs. 23 to 26, inclusive;

Sec. 35.

T. 4 N., R. 3 E.,

Sec. 1, lots 1 and 2 of NE¼, lots 1 and 2 of NW¼, NW¼SW¼, and SE¼;

Sec. 2;

Sec. 3, E½ of lot 1 of NE¼, lot 2 of NE¼, lot 2 of NW¼, and S½S½;

Sec. 4, lots 1 and 2 of NE¼, lots 1 and 2 of NW¼, SW¼, and S½SE¼;

Secs 5 and 6;

Sec. 7, E½;

Secs. 8 and 9;

Sec. 10, N½N½;

Sec. 12, N½ and SE¼.

T. 5 N., R. 3 E., partly unsurveyed.

Secs. 2 to 35, inclusive;

Sec. 36, SW¼.

T. 4 N., R. 4 E.,

Secs. 1 to 15, inclusive;

Sec. 17;

Sec. 18, N½;

Sec. 20, N½;

Secs. 21 to 27, inclusive;

Sec. 28, N½.

T. 5 N., R. 4 E., partly unsurveyed.

Secs. 2 to 11, inclusive;

Sec. 12, all except for Mineral Survey No. 6336;

Sec. 13, E½, E½E½NW¼, E½SW¼, and E½W½SW¼;

Secs. 14, 15, and 16;

Sec. 17, NW¼ and S½;

Secs. 18 to 24, inclusive;

Sec. 25, N½, SW¼, and W½SE¼;

Sec. 26, lots 1 to 4, inclusive, W½, and SE¼;

Secs. 27 to 36, inclusive.

T. 6 N., R. 4 E.,

Secs. 1 to 15, inclusive, and 17 to 24, inclusive;

Sec. 26;

Secs. 27 and 28, all except for Mineral Survey Nos. 3000 and 3980;

Secs. 29 to 35, inclusive;

Sec. 36, N½ and SW¼.

T. 3 N., R. 5 E.,

Secs. 1, 2, and 3;

Sec. 4, lots 1 to 12, inclusive, and E½NW¼NE¼SW¼;

Secs. 5 and 6;

Sec. 9, lots 1 and 2;

Sec. 10, lots 1 to 7, inclusive;

Sec. 11;

Sec. 12, lots 1 to 12, inclusive.

T. 4 N., R. 5 E., partly unsurveyed.

Secs. 2 to 35, inclusive.

T. 5 N., R. 5 E.,

Secs. 4 and 5;

Sec. 6, lots 1 to 10, inclusive, SE¼NW¼, E½SW¼, N½SE¼, and SW¼SE¼;

Sec. 7, lots 1 to 4, inclusive, lots 6 and 7, S½NE¼, SE¼NW¼, E½SW¼, and SE¼;

Sec. 8;

Secs. 14, 15, 18, 19, 20, 22, 23, 26, 27, 28, 30, 31, 32, 34, and 35.

T. 6 N., R. 5 E.,

Secs. 17 to 20, inclusive, and 29 to 32, inclusive.

Southern Acquisition Area

T. 2 N., R. 9 E.,

Sec. 25;

Sec. 26, all except for N½NW¼SW¼SW¼;

Sec. 27, E½ except for W½SE¼SE¼SE¼;

Sec. 34, S½NE¼NE¼NE¼, SE¼NE¼NE¼, W½NE¼NE¼, NW¼NE¼, and E½NW¼;

Sec. 35, N½ except for N½NE¼NE¼NE¼ and S½SW¼NW¼NE¼.

T. 2 N., R. 10 E.,

Secs. 2 to 11, inclusive;

Sec. 14, that portion lying north and west of the boundary of the Cleghorn Lakes Wilderness Area;

Sec. 15 and 17 to 22, inclusive;

Sec. 23, that portion lying west of the boundary of the Cleghorn Lakes Wilderness Area;

Sec. 26, that portion lying west and south of the boundary of the Cleghorn Lakes Wilderness Area;

Secs. 27 to 35, inclusive.

Eastern Acquisition Area

T. 4 N., R. 11 E.,

Secs. 1, 2, 11, 12, and 14.

T. 5 N., R. 11 E.,

Sec. 35.

T. 3 N., R. 12 E.,

Secs. 1, 2, and 3;

Secs. 10 to 15, inclusive;

Secs. 22, 23, and 24;

Sec. 25, that portion lying west of the boundary of the Sheephole Valley Wilderness Area;

Secs. 26 and 27;

Sec. 34, that portion lying north and east of the boundary of Cleghorn Lakes Wilderness Area;

Sec. 35.

T. 4 N., R. 12 E.,

Secs. 1 to 8, inclusive;

Secs. 10, 11, 12, 14, and 15;

Sec. 18, all except for Mineral Survey No. 5802;

Sec. 19, N½ except for Mineral Survey Nos. 5802 and 5805;

Sec. 21, E½;

Secs. 23 to 27, inclusive;

Sec. 28, E½;

Secs. 34 and 35.

T. 5 N., R. 12 E.,

Secs. 19 and 20, all except the lands conveyed by Patent No. 1000678;

Secs. 21 to 27, inclusive;

Sec. 28, N½ and SW¼;

Secs, 29 and 30, all except the lands conveyed by Patent No. 1000678;

Secs. 31 to 35, inclusive.

T. 3 N., R. 13 E.,

Sec. 4, that portion lying west of the Sheephole Valley Wilderness Area;

Secs. 5 and 7;

Sec. 8, 17, 18, and 19, those portions lying west of the Sheephole Valley Wilderness Area.

T. 4 N., R. 13 E.,

Secs. 1 to 4, inclusive, 6 to 15, inclusive, and 17 to 22, inclusive;

Secs. 23, 24, and 27, those portions lying northwesterly of the Sheephole Valley Wilderness Area;

Secs. 28 to 32, inclusive;

Secs. 33 and 34, that portion lying northwesterly of the Sheephole Valley Wilderness Area.

T. 5 N., R. 13 E.,

Secs. 19 and 20;

Sec. 22, W½;

Secs. 23 to 28, inclusive, and 30, 31, 32, 34, and 35.

T. 3 N., R. 14 E.,

Secs. 1 and 2;

Secs. 3, 4, and 10, those portions lying east of the Sheephole Valley Wilderness Area;

Secs. 11, 12, and 13;

Secs. 14 and 15, those portions lying east of the Sheephole Valley Wilderness Area.

T. 4 N., R. 14 E.,

Secs. 6, 7, 8, 10, 11, 12, 14, 15, 17, and 18;

Sec. 20, that portion lying northeasterly of the Sheephole Valley Wilderness Area;

Secs. 21 to 24, inclusive;

Sec. 25, that portion lying northwesterly of the Cadiz Dunes Wilderness Area;

Secs. 26, 27, and 28;

Sec. 29, that portion lying northeasterly of the Sheephole Valley Wilderness Area;

Secs. 33, 34, and 35.

T. 5 N., R. 14 E.,

Secs. 30 and 31.

T. 4 N, R. 15 E.,

Secs. 1 to 4, inclusive;

Sec. 5, all except for railroad rights-of-way;

Secs. 6, 7, and 8;

Sec. 9, all except for railroad rights-of-way;

[FR Doc. C1-2012-23479 Filed 11-23-12; 8:45 am]

BILLING CODE 1505-01-D